DEPARTMENT OF TRANSPORTATION

Federal Aviation Administration

14 CFR Part 39

[Docket No. FAA-2024-1296; Project Identifier MCAI-2023-00844-R; Amendment 39-22802; AD 2024-15-10]

RIN 2120-AA64

Airworthiness Directives; Bell Textron Canada Limited Helicopters

AGENCY: Federal Aviation Administration (FAA), DOT.

ACTION: Final rule.

SUMMARY: The FAA is adopting a new airworthiness directive (AD) for certain Bell Textron Canada Limited Model 505 helicopters. This AD was prompted by a fuel leakage discovered during fuel system crash impact testing activity. This AD requires installing a grommet around the sump drain port fitting airframe hole, as specified in a Transport Canada AD, which is incorporated by reference. The FAA is issuing this AD to address the unsafe condition on these products.

DATES: This AD is effective October 21, 2024.

The Director of the Federal Register approved the incorporation by reference of a certain publication listed in this AD as of October 21, 2024.

ADDRESSES:

AD Docket: You may examine the AD docket at regulations.gov under Docket No. FAA-2024-1296; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Transport Canada material identified in this AD, contact Transport Canada, Transport Canada National Aircraft Certification, 159 Cleopatra Drive, Nepean, Ontario, K1A 0N5, CANADA; telephone 888-663-3639; email TC.AirworthinessDirectives-Consignesdenavigabilite.TC@tc.gc.ca; internet tc.canada.ca/en/aviation. You may find the Transport Canada material on the Transport Canada website at wwwapps.tc.gc.ca/Saf-Sec-Sur/2/cawis-swimn/ad_qs1.aspx.

• You may view this material at the FAA, Office of the Regional Counsel, Southwest Region, 10101 Hillwood Pkwy., Room 6N-321, Fort Worth, TX 76177. For information on the availability of this material at the FAA, call (817) 222-5110. It is also available at regulations.gov under Docket No. FAA-2024-1296.

Other Related Material: For Bell material identified in this AD, contact Bell Textron Canada Limited, 12,800 Rue de l'Avenir, Mirabel, Quebec J7J 1R4, Canada; telephone 1-450-437-2862 or 1-800-363-8023; fax 1-450-433-0272; email productsupport@bellflight.com; or at bellflight.com/support/contact-support.

FOR FURTHER INFORMATION CONTACT: Michael Hughlett, Aviation Safety Engineer, FAA, 1600 Stewart Avenue, Suite 410, Westbury, NY 11590; phone: (817) 222-5110; email: michael.Hughlett@faa.gov.

SUPPLEMENTARY INFORMATION:

Background

Transport Canada, which is the aviation authority for Canada, has issued Transport Canada AD CF-2023-51, dated July 11, 2023 (Transport Canada AD CF-2023-51), to correct an unsafe condition on certain serial-numbered Bell Textron Canada Limited Model 505 helicopters.

The FAA issued a notice of proposed rulemaking (NPRM) to amend 14 CFR part 39 by adding an AD that would apply to certain serial-numbered Bell Textron Canada Limited Model 505 helicopters as identified in Transport Canada AD CF-2023-51. The NPRM published in the Federal Register on May 14, 2024 (89 FR 41906). The NPRM was prompted by a fuel leakage discovered during fuel system crash impact testing activity. In a certain position, the knurls on the locking sleeve of the fuel drain quick disconnect valve contacted the airframe cutout upon impact, resisting against the fuel bladder rotational action and causing deformation of the poppet, which led to the valve remaining in the partially open position and subsequent fuel leakage.

The NPRM proposed to require accomplishing the actions specified in Transport Canada AD CF-2023-51, as incorporated by reference, except for any differences identified as exceptions in the regulatory text of this AD. The FAA is issuing this AD to address the unsafe condition on these products.

You may examine Transport Canada AD CF-2023-51 in the AD docket at regulations.gov under Docket No. FAA-2024-1296.

Discussion of Final Airworthiness Directive

Comments

The FAA received no comments on the NPRM or on the determination of the costs.

Conclusion

These helicopters have been approved by the aviation authority of Canada and are approved for operation in the United States. Pursuant to the FAA's bilateral agreement with Canada, Transport Canada, has notified the FAA of the unsafe condition described in its AD. Except for minor editorial changes, this AD is adopted as proposed in the NPRM. Accordingly, the FAA is issuing this AD to address the unsafe condition on these helicopters.

Material Incorporated by Reference Under 1 CFR Part 51

Transport Canada AD CF-2023-51 specifies installing a split plastic grommet around the periphery of the sump drain port fitting airframe cutout.

This material is reasonably available because the interested parties have access to it through their normal course of business or by the means identified in the ADDRESSES section.

Other Related Material

The FAA reviewed Bell Alert Service Bulletin 505-21-21, dated June 8, 2021. For certain serial-numbered helicopters, this material specifies procedures for installing a split plastic grommet groove around the periphery of the sump drain port fitting airframe hole cutout with the split line at the 12 o'clock position.

Costs of Compliance

The FAA estimates that this AD affects 145 helicopters of U.S. registry. Labor rates are estimated at $85 per work-hour. Based on these numbers, the FAA estimates the following costs to comply with this AD.

Installing a grommet around the sump drain port fitting airframe hole will take approximately 1 work-hour and parts will cost a minimal amount, for an estimated cost of $85 per helicopter and $12,325 for the U.S. fleet.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-15-10 Bell Textron Canada Limited: Amendment 39-22802; Docket No. FAA-2024-1296; Project Identifier MCAI-2023-00844-R.

(a) Effective Date

This airworthiness directive (AD) is effective October 21, 2024.

(b) Affected ADs

None.

(c) Applicability

This AD applies to Bell Textron Canada Limited Model 505 helicopters, certificated in any category, as identified in Transport Canada AD CF-2023-51, dated July 11, 2023 (Transport Canada AD CF-2023-51).

(d) Subject

Joint Aircraft Service Component (JASC) Code: 2810, Fuel Storage.

(e) Unsafe Condition

This AD was prompted by a fuel leakage discovered during fuel system crash impact testing activity. The FAA is issuing this AD to prevent the fuel drain quick disconnect valve from catching on the airframe cutout and reduce the load on the valve body by preventing metal-to-metal contact following an impact. The unsafe condition, if not addressed, could result in a fuel leakage, post impact fire, injuries to occupants, and reduction in time to evacuate the helicopter.

(f) Compliance

Comply with this AD within the compliance times specified, unless already done.

(g) Requirements

Except as specified in paragraph (h) of this AD: Comply with all required actions and compliance times specified in, and in accordance with, Transport Canada AD CF-2023-51.

(h) Exceptions to Transport Canada AD CF-2023-51

Where Transport Canada AD CF-2023-51 refers to its effective date, this AD requires using the effective date of this AD.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD. Information may be emailed to: 9-AVS-AIR-730-AMOC@faa.gov.

(2) Before using any approved AMOC, notify your appropriate principal inspector, or lacking a principal inspector, the manager of the local flight standards district office/certificate holding district office.

(j) Related Information

For more information about this AD, contact Michael Hughlett, Aviation Safety Engineer, FAA, 1600 Stewart Avenue, Suite 410, Westbury, NY 11590; phone (817) 222-5110; email michael.hughlett@faa.gov.

(k) Material Incorporated by Reference

(1) The Director of the Federal Register approved the incorporation by reference of the material listed in this paragraph under 5 U.S.C. 552(a) and 1 CFR part 51.

(2) You must use this material as applicable to do the actions required by this AD, unless the AD specifies otherwise.

(i) Transport Canada AD CF-2023-51, dated July 11, 2023.

(ii) [Reserved]

(3) For Transport Canada AD CF-2023-51 material identified in this AD, contact Transport Canada, Transport Canada National Aircraft Certification, 159 Cleopatra Drive, Nepean, Ontario, K1A 0N5, CANADA; telephone 888-663-3639; email TC.AirworthinessDirectives-Consignesdenavigabilite.TC@tc.gc.ca; internet tc.canada.ca/en/aviation. You may find the Transport Canada material on the Transport Canada website at wwwapps.tc.gc.ca/Saf-Sec-Sur/2/cawis-swimn/ad_qs1.aspx.

(4) You may view this material at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on July 23, 2024.
Steven W. Thompson,
Acting Deputy Director, Compliance & Airworthiness Division, Aircraft Certification Service.

[FR Doc. 2024-20843 Filed 9-13-24; 8:45 am]

BILLING CODE 4910-13-P